DEPARTMENT OF HEALTH AND HUMAN SERVICES

Centers for Disease Control and Prevention

Disease, Disability, and Injury Prevention and Control Special Emphasis Panels (SEP): Capacity-Building Assistance to Improve the Delivery and Effectiveness of Human Immunodeficiency Virus (HIV) Prevention Interventions for Individuals with Known HIV-Positive Serostatus and Their Partners, PS 06-608

In accordance with Section 10(a)(2) of the Federal Advisory Committee Act (Pub. L. 92-463), the Centers for Disease Control and Prevention (CDC) announces the following meeting:

Name: Disease, Disability, and Injury Prevention and Control Special Emphasis Panel (SEP): Capacity-Building Assistance to Improve the Delivery and Effectiveness of Human Immunodeficiency Virus (HIV) Prevention Interventions for Individuals with Known HIV-Positive Serostatus and Their Partners, PS 06-608.

Times and Dates: 3 p.m.-5:40 p.m., May 3, 2006 (Closed) 9 a.m.-6 p.m., May 4, 2006 (Closed) 9 a.m.-12 p.m., May 5, 2006 (Closed)

Place: Atlanta Marriott North Central, 2000 Century Boulevard NE., Atlanta, GA 30345 Telephone 404.325.0000.

Status: The meeting will be closed to the public in accordance with provisions set forth in Section 552b(c)(4) and (6), Title 5 U.S.C., and the Determination of the Director, Management Analysis and Services Office, CDC, pursuant to Public Law 92-463.

Matters to Be Discussed: The meeting will include the review, discussion, and evaluation of applications received in response to Capacity-Building Assistance to Improve the Delivery and Effectiveness of Human Immunodeficiency Virus (HIV) Prevention Interventions for Individuals with Known HIV-Positive Serostatus and Their Partners, PS 06-608.

For More Information Contact: Beth Wolfe, Designated Federal Official, Prevention Support Office, National Center for HIV, STD, and TB Prevention, CDC, 1600 Clifton Road NE, MS E-07, Atlanta, GA 30333, Telephone 404.639.8531.

The Director, Management Analysis and Services Office, has been delegated the authority to sign Federal Register notices pertaining to announcements of meetings and other committee management activities, for both CDC and the Agency for Toxic Substances and Disease Registry.

Dated: April 5, 2006.
Alvin Hall,
Director, Management Analysis and Services Office, Centers for Disease Control and Prevention.

[FR Doc. E6-5361 Filed 4-11-06; 8:45 am]

BILLING CODE 4163-18-P [?USGPO Galley End:?]